DEPARTMENT OF AGRICULTURE

Forest Service

Payette National Forest, Idaho; Middle Little Salmon Vegetation Management Project

AGENCY: Forest Service, USDA.

ACTION: Comment Period Extension for Draft Environmental Impact Statement.

SUMMARY: The comment period has been extended for the proposed Middle Little Salmon Vegetation Management Project Draft Environmental Impact Statement (DEIS). The Notice of Availability of the DEIS as published in the Federal Register on January 3, 2003, (Volume 68, Number 2).

DATES: Comments concerning the analysis must be received in writing and postmarked by March 9, 2003.

ADDRESSES: Send written comments and suggestions to Forest Supervisor, c/o Middle Little Salmon Vegetation Management Project, Payette National Forest, P.O. Box 1026, McCall, Idaho 83638, fax (208) 634-0744.

FOR FURTHER INFORMATION CONTACT: Sue Dixon, Interdisciplinary Team Leader; or Kimberly Brandel, New Meadows District Ranger at (208) 347-0300.

SUPPLEMENTARY INFORMATION: The comment period ending February 24, 2003, has been extended to March 9, 2003, to provide time for public comment. This DEIS is available on the Internet at: http://www.fs.fed.us/r4/Payette/main.html. Substantive comments received during the comment period will receive agency response in the final environmental impact statement.

Dated: February 19, 2003.
Mark Madrid,
Payette Forest Supervisor.

[FR Doc. 03-4482 Filed 2-25-03; 8:45 am]

BILLING CODE 3410-11-M